DEPARTMENT OF THE INTERIOR

National Park Service

Notice of Meeting

SUMMARY: Notice is hereby given in accordance with the Federal Advisory Commission Act that a meeting of the Landmarks Committee of the National Park System Advisory Board will be held beginning at 1 p.m. on September 21, 2004, and at the following location. The meeting will continue beginning at 9 a.m. on the subsequent dates.

DATES: September 21-23, 2004.

Location: The Charles Sumner School, 1201 Seventeenth Street, NW., Washington, DC 20036.

FOR FURTHER INFORMATION CONTACT: Patricia Henry, National Historic Landmarks Survey, National Register, History, and Education, National Park Service, 1849 C Street, NW., (2280), Washington, DC 20240; telephone (202) 354-2216.

SUPPLEMENTARY INFORMATION: The purpose of the meeting of the Landmarks Committee of the National Park System Advisory Board is to evaluate nominations of historic properties in order to advise the National Park System Advisory Board of the qualifications of the property being proposed for National Historic Landmark (NHL) designation, and to recommend to the National Park System Advisory Board if the Landmarks Committee finds that each property meets the criteria for designation as a National Historic Landmark. The Committee also makes recommendations to the National Park System Advisory Board regarding amendments to existing designations, and proposals for withdrawal of designation. The members of the National Landmarks Committee are:

Mr. Larry E. Rivers, Ph.D., CHAIR

Mr. Ian W. Brown, Ph.D.

Ms. Mary Werner DeNadai, FAIA

Ms. Alferdteen Brown Harrison, Ph.D.

Mr. Bernard L. Herman, Ph.D.

Mr. E.L. Roy Hunt, J.D., Professor Emeritus

Mr. Ronald James

Ms. Paula J. Johnson

Mr. William J. Murtagh, Ph.D.

Mr. William D. Seale, Ph.D.

The meeting will be open to the public. Any member of the public may file for consideration by the committee written comments concerning the National Historic Landmarks nominations, amendments to existing designations, or proposals for withdrawal of designation, as well as matters pursuant to 36 CFR part 65.

Comments should be submitted to Carol D. Shull, Chief, National Historic Landmarks Survey and Keeper of the National Register of Historic Places, National Register, History, and Education, National Park Service, 1849 C Street, NW., (2280), Washington, DC 20240.

The committee will consider the following nominations, amendments to existing designations, and proposals for withdrawal of designation:

Nominations

Alabama

• BETHEL BAPTIST CHURCH, PARSONAGE, AND GUARD HOUSE, Collegeville, AL

• FOSTER AUDITORIUM, Tuscaloosa, AL

Alaska

• AMALIK BAY ARCHEOLOGICAL DISTRICT, Lake and Peninsula Borough, AK

California

• SANTA BARBARA COUNTY COURTHOUSE, Santa Barbara, CA

Delaware

• HOWARD HIGH SCHOOL, Wilmington, DE

District of Columbia

• LAFAYETTE BUILDING, DC

• UNITED MINE WORKERS OF AMERICA BUILDING, DC

Florida

• FREEDOM TOWER, Miami, FL

Indiana

• AUBURN CORD DUESENBERG AUTOMOBILE FACILITY, Auburn, IN

Louisiana

• ROSEDOWN, West Feliciana Parish, LA

• LONGUE VUE HOUSE AND GARDENS, New Orleans, LA

Massachusetts

• WILLIAM ROTCH, JR. HOUSE, New Bedford, MA

• FREDERICK AYER MANSION, Boston, MA

• WESLEYAN GROVE, Oak Bluffs, MA

• QUINCY HOMESTEAD, Quincy, MA

Mississippi

• BATTLE OF PORT GIBSON, Claiborne County, MS

New Jersey

• RADBURN, Borough of Fair Lawn, NJ

New York

• WILLARD MEMORIAL CHAPEL—WELSH MEMORIAL HALL, Auburn, NY

• ELEPHANT HOTEL, Somers, NY

North Dakota

• FREDERICK A. AND SOPHIA BAGG BONANZA FARM, Richland County, ND

Ohio

• MOUNT PLEASANT HISTORIC DISTRICT, Mount Pleasant, OH

Pennsylvania

• CHATHAM VILLAGE, Pittsburgh, PA

• LIGHTFOOT MILL, Chester Springs, PA

• MEADOWCROFT ROCKSHELTER, Washington County, PA

• OLD ST. JOSEPH'S CATHOLIC CHURCH, Philadelphia, PA

Tennessee

• GRACELAND (ELVIS PRESLEY HOME), Memphis, TN

Wisconsin

• MILWAUKEE CITY HALL, Milwaukee, WI

• WISCONSIN DAIRY BARN, Madison, WI

Amendments to Existing Designations

Alabama

• BOTTLE CREEK SITE, Baldwin County, AL (boundary revision)

North Carolina

• BILTMORE ESTATE, Buncombe County, NC (boundary revision and revised documentation)

North Dakota

• MENOKEN INDIAN VILLAGE SITE, Burleigh County, ND (revised documentation)

Proposals for Withdrawal of Designation

Illinois

• GRANT PARK STADIUM(SOLDIER FIELD), Chicago, IL

Michigan

• LINCOLN MOTOR COMPANY PLANT, Detroit, MI

Ohio

• ROCKET ENGINE TEST FACILITY, Cuyahoga County, OH

Tennessee

• ISAAC FRANKLIN PLANTATION (FAIRVUE), Gallatin, TN

Carol D. Shull,
Chief, National Historic Landmarks Survey and Keeper of the National Register of Historic Places, National Park Service, Washington, DC.

[FR Doc. 04-16395 Filed 7-19-04; 8:45 am]

BILLING CODE 4312-51-P